DEPARTMENT OF COMMERCE

National Oceanic and Atmospheric Administration

Availability of Seats for the Fagatele Bay National Marine Sanctuary Advisory Council

AGENCY: Office of National Marine Sanctuaries (ONMS), National Ocean Service (NOS), National Oceanic and Atmospheric Administration (NOAA), Department of Commerce (DOC).

ACTION: Notice and request for applications.

SUMMARY: The ONMS is seeking applications for the following vacant seats on the Fagatele Bay National Marine Sanctuary Advisory Council: Research, Education, Commercial Fishing, Ocean Recreation, Youth, Tutuila: East Side, Tutila: West Side, and Manua Islands. Applicants are chosen based upon their particular expertise and experience in relation to the seat for which they are applying; community and professional affiliations; philosophy regarding the protection and management of marine resources; and possibly the length of residence in the area affected by the sanctuary. Applicants who are chosen as members should expect to serve 3-year terms, pursuant to the council's Charter.

DATES: Applications are due by April 30, 2010.

ADDRESSES: Application kits may be obtained from Emily Gaskin, Fagatele Bay National Marine Sanctuary, American Samoa Department of Commerce Office, Executive Office Building, Utulei. Completed applications should be returned to the same address.

FOR FURTHER INFORMATION CONTACT: Emily Gaskin at (684) 633-5155 ext. 271 or gaskin.emily@gmail.com.

SUPPLEMENTARY INFORMATION: The Fagatele Bay National Marine Sanctuary Advisory Council was established in 1986 pursuant to Federal law to ensure continued public participation in the management of the sanctuary. The Sanctuary Advisory Council brings members of a diverse community together to provide advice to the Sanctuary Manager (delegated from the Secretary of Commerce and the Under Secretary for Oceans and Atmosphere) on the management and protection of the Sanctuary, or to assist the National Marine Sanctuary Program in guiding a proposed site through the designation or the periodic management plan review process.

Authority: 16 U.S.C. 1431, et seq.

(Federal Domestic Assistance Catalog Number 11.429 Marine Sanctuary Program)

Dated: March 22, 2010.
Daniel J. Basta,
Director, Office of National Marine Sanctuaries, National Ocean Service, National Oceanic and Atmospheric Administration.

[FR Doc. 2010-7000 Filed 3-30-10; 8:45 am]

BILLING CODE 3510-NK-M